DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed request for a new OMB control number for the “Eating and Health Supplement to the American Time Use Survey.” A copy of the proposed information collection request (ICR) can be obtained by contacting the individual listed below in the Addresses section of this notice.

DATES: Written comments must be submitted to the office listed in the Addresses section of this notice on or before September 27, 2013.

ADDRESSES: Send comments to Amelia Vogel, BLS Clearance Officer, Division of Management Systems, Bureau of Labor Statistics, Room 4080, 2 Massachusetts Avenue NE., Washington, DC 20212. Written comments also may be transmitted by fax to 202-691-5111 (this is not a toll free number).

FOR FURTHER INFORMATION CONTACT: Amelia Vogel, BLS Clearance Officer, at 202-691-7628 (this is not a toll free number). (See Addresses section.)

SUPPLEMENTARY INFORMATION:

I. Background

The American Time Use Survey (ATUS) is the Nation's first federally administered, continuous survey on time use in the United States. It measures, for example, time spent with children, working, sleeping, or doing leisure activities. In the United States, several existing Federal surveys collect income and wage data for individuals and families, and analysts often use such measures of material prosperity as proxies for quality of life. Time-use data substantially augment these quality-of-life measures. The data also can be used in conjunction with wage data to evaluate the contribution of non-market work to national economies. This enables comparisons of production between nations that have different mixes of market and non-market activities.

The ATUS is used to develop nationally representative estimates of how people spend their time. This is done by collecting a time diary about the activities survey respondents did over a 24-hour period “yesterday,” from 4 a.m. on the day before the interview until 4 a.m. on the day of the interview. In the one-time interview, respondents also report who was with them during the activities, where they were, how long each activity lasted, and if they were paid. All of this information has numerous practical applications for sociologists, economists, educators, government policymakers, businesspersons, health researchers, and others.

Time use data allows researchers to analyze the choices people make in how they spend their time, along with the time and income constraints they face. The data from the proposed Eating and Health module supplement can be used for research on the inter-relations and inter-associations of time use patterns and body mass index (BMI), food assistance participation, grocery shopping, and meal preparation. These data enhance the understanding of peoples' overall well-being.

The Eating and Health module supplement includes questions about peoples' eating and drinking behaviors, food assistance participation, grocery and meal shopping, food preparation, and food sufficiency. It also includes questions on general health and physical exercise. Information collected in the supplement will be published as a public use data set to facilitate research on numerous topics, such as: The association between eating patterns, physical activity, and BMI; time-use patterns of food assistance program participants and low-income nonparticipants; and how time-use varies by health status. Sponsored by the Economic Research Service (ERS) of the United States Department of Agriculture (USDA), the supplement is asked of respondents immediately upon their completion of the American Time Use Survey (ATUS).

The Eating and Health supplement supports the mission of the Bureau of Labor Statistics by providing relevant information on economic and social issues, specifically the association between time-use patterns and eating and physical activity behavior and health. The data from the Eating and Health Module Supplement also closely support the mission of its sponsor, ERS, to improve the nation's nutrition and health. The supplement surveys individuals aged 15 and up from a nationally representative sample of approximately 2,190 sample households each month.

II. Current Action

Office of Management and Budget clearance for a new OMB control number is being sought for the Eating and Health Supplement to the American Time Use Survey. This supplement was previously collected as part of the ATUS (OMB control number 1220-0175). The BLS is requesting a new OMB control number in order to have greater flexibility in managing this episodic information collection without needing to revisit the more permanent aspects of the ATUS.

There have been few efforts to collect data on time-use and how it relates to BMI, food assistance participation, grocery shopping, and meal preparation. The ATUS first ran Eating and Health Modules in 2006-08. The 2006-08 Eating and Health Modules produced useful data that have been used in a variety of research products that inform policy and programs on eating and other behaviors.

Fielding the Eating and Health Module Supplement in calendar years 2014 and 2015 will allow researchers to monitor changes in Americans' time use patterns along with changes in Americans' eating activities, BMI values, and food assistance participation. Additionally, the proposed supplement includes several important questions that were not asked in 2006-08, including questions about soft drink consumption, grocery and meal shopping, meal preparation, food affordability, and physical exercise. Running the proposed 2014-15 Eating and Health Module Supplement will add significant information beyond what was collected in 2006-08 and provide an additional dimension to analyses of the time-use data.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: New collection (Request for a new OMB control Number).

Agency: Bureau of Labor Statistics.

Title: Eating and Health Supplement to the American Time Use Survey.

OMB Number: 1220-NEW.

Affected Public: Individuals or households.

Total Respondents: 12,600.

Frequency: One time.

Total Responses: 12,600.

Average Time per Response: 5 minutes.

Estimated Total Burden Hours: 1,050 hours.

Total Burden Cost (capital/startup): $0.

Total Burden Cost (operating/maintenance): $0.

Comments submitted in response to this notice will be summarized and/or included in the request for Office of Management and Budget approval of the information collection request; they also will become a matter of public record.

Signed at Washington, DC, this 23rd day of July 2013.
Kimberley D. Hill,
Chief, Division of Management Systems, Bureau of Labor Statistics.

[FR Doc. 2013-18060 Filed 7-26-13; 8:45 am]

BILLING CODE 4510-24-P